ENVIRONMENTAL PROTECTION AGENCY

[EPA-HQ-OECA-2011-0264; FRL-9990-03-OEI]

Information Collection Request Submitted to OMB for Review and Approval; Comment Request; NSPS for Stationary Compression Ignition Internal Combustion Engines (Renewal)

AGENCY: Environmental Protection Agency (EPA).

ACTION: Notice.

SUMMARY: The Environmental Protection Agency (EPA) has submitted an information collection request (ICR), NSPS for Stationary Compression Ignition Internal Combustion Engines (EPA ICR No. 2196.06, OMB Control No. 2060-0590), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 25, 2019.

ADDRESSES: Submit your comments, referencing Docket ID Number EPA-HQ-OECA-2011-0264 to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA West, Room 3334, 1301 Constitution Ave. NW, Washington, DC. The telephone number for the Docket Center is 202-566-1744. For additional information about EPA's public docket, visit: http://www.epa.gov/dockets.

Abstract: The New Source Performance Standards (NSPS) for Stationary Compression Ignition Internal Combustion Engines (40 CFR part 60, subpart IIII) apply to manufacturers, owners and operators of new stationary compression ignition (CI) internal combustion engines (ICE). New facilities include those that commenced construction, modification or reconstruction after the date of proposal. For the purposes of this subpart, the date that construction commences is the date the engine is ordered by the owner or operator. In general, all NSPS standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NSPS. This information is being collected to assure compliance with 40 CFR part 60, subpart IIII.

Form Numbers: None.

Respondents/affected entities: Manufacturers, owners and operators of new stationary compression ignition (CI) internal combustion engines (ICE).

Respondent's obligation to respond: Mandatory (40 CFR part 60, subpart IIII).

Estimated number of respondents: 206,885 (total).

Frequency of response: Initially and annually.

Total estimated burden: 408,000 hours (per year). Burden is defined at 5 CFR 1320.3(b).

Total estimated cost: $46,700,000 (per year), includes $167,000 for annualized capital/startup and/or operation & maintenance costs.

Changes in the Estimates: There is no significant increase in the burden hours in this ICR compared to the previous ICR. This because the regulations have not changed significantly over the past three years and are not anticipated to change over the next three years. The increase in labor costs from the most-recently approved ICR is due to adjustment in labor rates. We also updated the number of respondents to reflect new respondents since the approval of the prior ICR. There was no change in the capital or O&M costs. There is a small increase in the number of responses based on the adjustments to the number of respondents.

Courtney Kerwin,
Director, Regulatory Support Division.

[FR Doc. 2019-05744 Filed 3-25-19; 8:45 am]

BILLING CODE 6560-50-P